DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use. Since publication of the 60 day proposed collection notice, 72 FR 26140, May 8, 2007, the burden estimates have been changed to correct burden hours and cost estimates.

Title: Request for Site Inspection (FEMA Form 90-1) and Landowner's Authorization/Ingress-Egress Agreement.

OMB Number: 1660-0030.

Abstract: FEMA Temporary Housing Assistance is used to provide mobile homes, travel trailers, or other forms of readily fabricated forms of housing for the purpose of providing temporary housing to eligible applicants or victims of federally declared disasters. This information is required to determine the feasibility of the site for installation of the housing unit and ensured written permission of the property owner is obtained to allow the housing unit on the property to include ingress and egress authorization.

Affected Public: Individuals and Households.

Number of Respondents: 117,071.

Estimated Time per Respondent: FEMA Form 90-1, 10 minutes; FEMA Form 90-31, 10 minutes.

Estimated Total Annual Burden Hours: 39,024 hours.

Frequency of Response: On Occasion.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before September 19, 2007.

FOR FURTHER INFORMATION CONTACT: Requests for additional information or copies of the information collection should be made to Director, Office of Records Management, FEMA, 500 C Street, SW., Room 609, Washington, DC 20472, facsimile number (202) 646-3347, or e-mail address FEMA-Information-Collections@dhs.gov.

Dated: August 9, 2007.
John A. Sharetts-Sullivan,
Director, Office of Records Management, Office of Management Directorate, Federal Emergency Management Agency, Department of Homeland Security.

[FR Doc. E7-16278 Filed 8-17-07; 8:45 am]

BILLING CODE 9110-10-P